ENVIRONMENTAL PROTECTION AGENCY

[FRL-9903-86-OEI]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. Seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses to Agency Clearance Requests

OMB Approvals

EPA ICR Number 0152.10; Notice of Arrival of Pesticides and Devices (FIFRA); 19 CFR 12.112; was approved on 11/13/2013; OMB Number 2070-0020; expires on 11/30/2016; Approved with change.

EPA ICR Number 1604.10; NSPS for Secondary Brass/Bronze Production, Primary Copper/Zinc/Lead Smelters, Primary Aluminum Reduction Plants and Ferroalloy Production Facilities; 40 CFR part 60 subparts A, M, P, Q, R, S, and Z; was approved on 11/14/2013; OMB Number 2060-0110; expires on 11/30/2016; Approved without change.

EPA ICR Number 2370.03; Ambient Oxides of Sulfur Monitoring Regulations: Revisions to Network Design Requirements (Renewal); 40 CFR part 58; was approved on 11/18/2013; OMB Number 2060-0642; expires on 11/30/2016; Approved without change.

EPA ICR Number 0278.11; Notice of Supplemental Distribution of a Registered Pesticide Product; 40 CFR 152.132; was approved on 11/20/2013; OMB Number 2070-0044; expires on 11/30/2016; Approved without change.

EPA ICR Number 2415.02; Pesticide Environmental Stewardship Program Annual Measures Reporting; was approved on 11/22/2013; OMB Number 2070-0188; expires on 11/30/2016; Approved with change.

EPA ICR Number 2079.05; NESHAP for Metal Can Manufacturing Surface Coating; 40 CFR part 63 subparts A and KKKK; was approved on 11/22/2013; OMB Number 2060-0541; expires on 11/30/2016; Approved with change.

EPA ICR Number 1966.05; NESHAP for Boat Manufacturing; 40 CFR part 63 subparts A and VVVV; was approved on 11/22/2013; OMB Number 2060-0546; expires on 11/30/2016; Approved without change.

EPA ICR Number 1765.07; National Volatile Organic Compound Emission Standards for Automobile Refinish Coatings (Renewal); 40 CFR part 59 subpart B; was approved on 11/25/2013; OMB Number 2060-0353; expires on 11/30/2016; Approved without change.

EPA ICR Number 1135.11; NSPS for Magnetic Tape Coating Facilities; 40 CFR part 60 subparts A and SSS; was approved on 11/26/2013; OMB Number 2060-0171; expires on 11/30/2016; Approved without change.

EPA ICR Number 2345.03; Control of Emissions from New Marine Compression-Ignition Engines at or Above 30 Liters per Cylinder; 40 CFR parts 1042, 1043, 1060, 1065 and 1068; was approved on 11/27/2013; OMB Number 2060-0641; expires on 11/30/2016; Approved without change.

Comment Filed

EPA ICR Number 2475.01; Labeling Change for Certain Minimum Risk Pesticides under FIFRA Section 25(b); in 40 CFR 152.25; OMB filed comment on 11/22/2013.

Richard T. Westlund,
Acting Director, Collections Strategies Division.

[FR Doc. 2013-29120 Filed 12-5-13; 8:45 am]

BILLING CODE 6560-50-P